DEPARTMENT OF EDUCATION

34 CFR Part 674

Federal Perkins Loan Program; Correction of Effective Date

AGENCY: Department of Education.

ACTION: Final regulations; correction of effective date.

SUMMARY: On April 6, 2000 technical amendments to regulations governing the Federal Perkins Loan Program were published in the Federal Register (65 FR 18001). This document corrects the effective date of May 8, 2000 announced. The correct effective date for the technical amendments is July 1, 2000. These technical amendments are to take effect immediately following the incorporation of previous amendments to 34 CFR part 674 published on October 28, 1999 (64 FR 58298-58315) with an effective date of July 1, 2000.

DATES: The regulations amending 34 CFR part 674 published on April 6, 2000 (65 FR 18001-18003) are effective July 1, 2000.

FOR FURTHER INFORMATION CONTACT: Ms. Vanessa Freeman, Program Specialist, U.S. Department of Education, 400 Maryland Avenue, SW., Room 3045, Regional Office Building 3, Washington, DC 20202-5449. Telephone: (202) 708-8242. If you use a telecommunications device for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION:

Electronic Access to This Document

You may view this document in text or Adobe Portable Document Format (PDF) on the Internet at the following sites:

http://ocfo.ed.gov/fedreg.htm

http://www.ed.gov/news.html

http://ifap.ed.gov/csb_html/fedlreg.htm

To use the PDF you must have the Adobe Acrobat Reader Program, which is available free at the first of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

(Catalog of Federal Domestic Assistance Number: 84.037 Federal Perkins Loan Program)

List of Subjects in 34 CFR Part 674

Loan programs—education, Reporting and recordkeeping requirements, Student aid.

Dated: May 1, 2000.
Maureen McLaughlin,
Acting Assistant Secretary, Office of Postsecondary Education.

[FR Doc. 00-11230 Filed 5-4-00; 8:45 am]

BILLING CODE 4000-01-P